ENVIRONMENTAL PROTECTION AGENCY

[FRL-7649-2]

Science Advisory Board Staff Office; Notification of an Upcoming Science Advisory Board Meeting

AGENCY: Environmental Protection Agency (EPA).

ACTION: Notice.

SUMMARY: The EPA Science Advisory Board (SAB) Staff Office announces a public face-to-face meeting of the Executive Board of the EPA SAB. The Board will discuss several issues and review two SAB Committee reports.

DATES: June 3-4, 2004. A public meeting of the Board will be held from 9 a.m. to 5:30 p.m (eastern time) on June 3, 2004, and from 8:30 a.m. to 3 p.m. (eastern time) on June 4, 2004.

ADDRESSES: The June 3-4, 2004 meeting of the Board will be held in the EPA Science Advisory Board Conference Center (Room 3705), 1025 F Street, NW., Washington, DC 20004.

FOR FURTHER INFORMATION CONTACT: Members of the public who wish to obtain further information regarding the SAB may contact Mr. Thomas O. Miller, Designated Federal Officer (DFO), SAB Staff Office, via phone (202-343-9982) or e-mail at miller.tom@epa.gov, or Dr. Anthony Maciorowski, Associate Director for Science, SAB Staff Office, via phone (202-343-9983) or e-mail at maciorowski.anthony@epa.gov.

The SAB Mailing address is: U.S. EPA, Science Advisory Board Staff Office (1400F), 1200 Pennsylvania Avenue, NW., Washington, DC 20460. General information about the SAB, as well as any updates concerning the meetings announced in this notice, may be found in the SAB Web site at http://www.epa.gov/sab.

SUPPLEMENTARY INFORMATION: Background on the Board Meeting: At this meeting, the Science Advisory Board will focus on the following: (a) A discussion of the procedures and outcomes of the Board's recent review of the Fiscal Year (FY) 2005 science and research budgets for EPA, (b) a discussion of the nominated advisory projects for FY 2005, (c) initiate planning for the SAB Annual meeting (scheduled for December 2004), and (d) review a number of SAB Committees' draft reports. Any additional items that are identified prior to the meeting will be reflected on the meeting agenda that will be posted on the SAB Web site prior to the meeting.

(a) Science and Research Budget Review: The SAB recently reviewed the EPA Science and Research budget proposal for FY 2005. Information on that review, and the report to the EPA Administrator that was developed as a result of that activity, are available on the SAB Web site at: http://www.epa.gov/sab/panels/fy2005_sci_res_budget_advisory.html. At this meeting, the Board will discuss the process and results of the FY 2005 science and research budget review with Agency officials. The purpose will be to consider process changes for the FY 2006 budget review cycle that will make the SAB-EPA interaction more efficient and improve its focus. The Board intends to hold a series of briefings at each of its meetings throughout the year to allow it to learn more on specific EPA Science and Research programs.

(b) Review of Nominated Advisory Projects for FY 2005: The Board will conduct an initial review of nominated projects from the Agency and the SAB.

(c) Review of SAB Committee Reports: The Board will review two draft SAB reports. These include reports on: (1) The SAB's review of EPA's Environmental Economics Research Strategy, and (2) the SAB's review of EPA's Air Toxics Research Strategy. Information on these reviews, and drafts of each report, can be found on the SAB Web site at: http://www.epa.gov/sab/drrep.htm.

Availability of Review Material for the Board Meeting: Documents that are the subject of this meeting are available from the SAB Web site at: http://www.epa.gov/sab.

Procedures for Providing Public Comment: It is the policy of the EPA SAB Staff Office to accept written public comments of any length, and to accommodate oral public comments whenever possible. The SAB Staff Office expects that public statements presented at Board meetings will not be repetitive of previously submitted oral or written statements. Oral Comments: In general, each individual or group requesting an oral presentation at a face-to-face meeting will be limited to a total time of ten minutes (unless otherwise indicated). Interested parties should contact the DFO in writing via e-mail at least one week prior to the meeting in order to be placed on the public speaker list for the meeting. Speakers should bring at least 35 copies of their comments and presentation slides for distribution to the participants and public at the meeting. Written Comments: Although written comments are accepted until the date of the meeting (unless otherwise stated), written comments should be received in the SAB Staff Office at least one week prior to the meeting date so that the comments may be made available to the committee for their consideration. Comments should be supplied to the DFO at the address/contact information above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

Meeting Accommodations: Individuals requiring special accommodation to access these meetings, should contact the DFO at least five business days prior to the meeting so that appropriate arrangements can be made.

Dated: April 8, 2004.
Vanessa T. Vu,
Director, EPA Science Advisory Board Staff Office.

[FR Doc. 04-8672 Filed 4-15-04; 8:45 am]

BILLING CODE 6560-50-P